SECURITIES AND EXCHANGE COMMISSION

Sunshine Act Meetings

TIME AND DATE: Notice is hereby given, pursuant to the provisions of the Government in the Sunshine Act, Publc Law 94-409, that the Securities and Exchange Commission Investor Advisory Committee will hold a public meeting on Tuesday, December 10, 2024. The meeting will begin at 10:00 a.m. (ET) and will be open to the public.

PLACE: The meeting will be conducted by remote means. Members of the public may watch the webcast of the meeting on the Commission's website at www.sec.gov.

STATUS: This Sunshine Act notice is being issued because a majority of the Commission may attend the meeting.

Public Comment: The public is invited to submit written statements to the Committee. Written statements should be received on or before December 9, 2024.

Written statements may be submitted by any of the following methods:

Electronic Statements

• Use the Commission's internet submission form (https://www.sec.gov/rules/other.shtml); or

• Send an email message to rules-comments@sec.gov. Please include File No. 265-28 on the subject line; or

Paper Statements

• Send paper statements to Vanessa A. Countryman, Secretary, Securities and Exchange Commission, 100 F Street NE, Washington, DC 20549-1090.

All submissions should refer to File No. 265-28. This file number should be included on the subject line if email is used. To help us process and review your statement more efficiently, please use only one method.

The Commission will post all statements on the Commission's website. Statements also will be available for website viewing and printing in the Commission's Public Reference Room, 100 F Street NE, Room 1503, Washington, DC 20549, on official business days between the hours of 10:00 a.m. and 3:00 p.m. Operating conditions may limit access to the Commission's Public Reference Room. Do not include personal information in submissions; you should submit only information that you wish to make available publicly. We may redact in part or withhold entirely from publication submitted material that is obscene or subject to copyright.

MATTERS TO BE CONSIDERED: The agenda for the meeting includes: welcome and opening remarks; approval of previous meeting minutes; a panel discussion regarding the use of mandatory arbitration clauses by registered investment advisers; a panel discussion regarding mainstreaming of alternative assets to retail investors; a discussion of a recommendation regarding protection of investors in their interactions with finfluencers; subcommittee and working group reports; and a non-public administrative session.

CONTACT PERSON FOR MORE INFORMATION: For further information, please contact Vanessa A. Countryman from the Office of the Secretary at (202) 551-5400.

Authority: 5 U.S.C. 552b.

Dated: November 26, 2024.
Vanessa A. Countryman,
Secretary.

[FR Doc. 2024-28203 Filed 11-26-24; 4:15 pm]

BILLING CODE 8011-01-P